DEPARTMENT OF LABOR

Employment and Training Administration

[TA-W-58,623L; TA-W-58,623EE; TA-W-58,623FF]

Westpoint Home, Inc., Formerly Westpoint Stevens, Inc., Sales and Marketing Office, New York, NY; Including Employees of Westpoint Home, Inc., Formerly Westpoint Stevens, Inc., Sales and Marketing Office, New York, NY Employees Working at the Following Locations: Malvern, PA, Santa Fe Springs, CA; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Notice of Determination Regarding Eligibility to Apply for Worker Adjustment Assistance on February 21, 2006, applicable to workers of WestPoint Home, Inc., formerly WestPoint Stevens, Inc., Sales and Marketing Office, New York, New York. The notice was published in the Federal Register on March 22, 2006 (71 FR 14549).

At the request of a company official, the Department reviewed the certification for workers of the subject firm.

New information shows that worker separations have occurred involving employees of the Sales and Marketing Office, New York, New York of WestPoint Home, Inc., formerly WestPoint Stevens, Inc. located in Malvern, Pennsylvania and Santa Fe Springs, California. Mr. Jim Connolly and Ms. Janice Antista provided support services for the manufacture of comforters, sheets, pillowcases, towels and blankets produced by WestPoint Home, Inc., formerly WestPoint Stevens, Inc.

Based on these findings, the Department is amending this certification to include employees of the Sales and Marketing Office New York, New York facility of WestPoint Home, Inc., formerly WestPoint Stevens, Inc. located in Malvern, Pennsylvania and Santa Fe Springs, California.

The intent of the Department's certification is to include all workers of WestPoint Home, Inc., formerly WestPoint Stevens, Inc., Sales and Marketing Office, New York, New York who were adversely affected by increased company and customer imports.

The amended notice applicable to TA-W-58,623L is hereby issued as follows:

All workers of WestPoint Home, Inc., formerly WestPoint Stevens, Inc., Sales and Marketing Office, New York, New York (TA-W-58,623L), including employees reporting to this office but working in Malvern, Pennsylvania (TA-W-58,623EE) and Santa Fe Springs, California (TA-W-58,623FF), who became totally or partially separated from employment on or after January 12, 2005, through February 21, 2008, are eligible to apply for adjustment assistance under Section 223 of the Trade Act of 1974, and are also eligible to apply for alternative trade adjustment assistance under Section 246 of the Trade Act of 1974.

Signed at Washington, DC this 31st day of January 2007.
Elliott S. Kushner,
Certifying Officer, Division of Trade Adjustment Assistance.

[FR Doc. E7-1956 Filed 2-6-07; 8:45 am]

BILLING CODE 4510-FN-P